SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 27, 2004.

ADDRESSES: Send all comments regarding whether this information collection is necessary for the proper performance of the function of the agency, whether the burden estimates are accurate, and if there are ways to minimize the estimated burden and enhance the quality of the collection, to Edsel Brown, Assistant Administrator, Office of Technology, Small Business Administration, 409 3rd Street SW., Suite 8800, Washington, DC 20416.

FOR FURTHER INFORMATION CONTACT: Edsel M. Brown Jr., Assistant Administrator, 202-205-7343, edsel.brown@sba.gov or Curtis B. Rich, Management Analyst, 202-205-7030.

SUPPLEMENTARY INFORMATION:

Title: “Data Collection for SBIR/STTR Public and Government Databases”.

Description of Respondents: All firms or individuals applying for a Phase 1 or Phase II award from the SBIR or STTR programs.

Form No.: N/A.

Annual Responses: 30,000.

Annual Burden: 15,000.

Jacqueline White,
Chief, Administrative Information Branch.

[FR Doc. 04-24011 Filed 10-26-04; 8:45 am]

BILLING CODE 8025-01-P